FEDERAL COMMUNICATIONS COMMISSION

[CG Docket No. 10-51; DA 10-314]

Structure and Practices of the Video Relay Service Program

AGENCY: Federal Communications Commission.

ACTION: Notice.

SUMMARY: In this document, the Commission, via the Consumer and Governmental Affairs Bureau (Bureau), addresses the compensability from the Interstate TRS Fund (Fund) of certain types of calls made through Video Relay Service (VRS), a form of Telecommunications Relay Service (TRS). First, the Bureau emphasizes that VRS calls made by or to a VRS provider's employee, or the employee of a provider's subcontractor, are not eligible for compensation from the TRS Fund on a per-minute basis from the Fund, but rather as business expenses. Second, the Bureau emphasizes that VRS calls placed for the purpose of generating compensable minutes are not, and never have been, compensable from the Fund. Finally, the Bureau emphasizes that two categories of calls do not meet the definition of TRS or otherwise are not compensable from the Fund under plain statutory language: (1) VRS Voice Carry Over (VCO) used to connect two hearing users and (2) VRS calls used to connect two users who are both outside the United States. This action is necessary to explain that certain types of TRS minutes are not compensable from the Fund. The intended impact of this action is to enhance the integrity of the TRS program.

DATES: Effective February 25, 2010.

FOR FURTHER INFORMATION CONTACT: Gregory Hlibok, Consumer and Governmental Affairs Bureau at (202) 559-5158 (VP), or e-mail: Gregory.Hlibok@fcc.gov.

SUPPLEMENTARY INFORMATION: This is a synopsis of the Commission's document DA 10-314, adopted and released on February 25, 2010. The full text of this document and copies of any subsequently filed documents in this matter will be available for public inspection and copying during regular business hours at the FCC Reference Information Center, Portals II, 445 12th Street, SW., Room CY-A257, Washington, DC 20554. This document and copies of subsequently filed documents in this matter may also be purchased from the Commission's duplicating contractor at Portals II, 445 12th Street, SW., Room CY-B402, Washington, DC 20554. Customers may contact the Commission's duplicating contractor at their Web site: http://www.bcpiweb.com or call 1-800-378-3160. To request materials in accessible formats for people with disabilities (Braille, large print, electronic files, audio format), send an e-mail to fcc504@fcc.gov or call the Consumer and Governmental Affairs Bureau at (202) 418-0530 (voice), (202) 418-0432 (TTY). Document DA 10-314 can also be downloaded in Word or Portable Document Format (PDF) at: http://www.fcc.gov/cgb/dro.

Synopsis

VRS Calls Already Compensated Through the Rate Base

1. In document DA 10-314, the Bureau emphasizes that VRS calls made by or to a VRS provider's employee, or the employee of a provider's subcontractor, are not eligible for compensation from the TRS Fund on a per-minute basis as part of the provider's calls submitted monthly to the Fund administrator for payment. Instead, the costs of such calls are business expenses that can and should be included in the providers' cost data submitted to the Fund administrator for purposes of setting VRS compensation rates. The Relay Services Data Request form, which is submitted to the Fund Administrator annually by each provider for purposes of determining the compensation rate, expressly identifies such expenses (e.g., for telecommunications expenses, operations support, human resources, and marketing and advertising) as business expenses. In this manner, the cost associated with providing telephone service for use by employees is properly reflected in the VRS compensation rate. Providers have had ample notice that such costs should be treated as business expenses. Because providers already are able to include the costs of providing telephone and telecommunications services for use by employees in their annual submissions to the Fund Administrator, to permit providers also to be compensated from the Fund for such calls on a per-minute basis would result in double recovery from the Fund.

VRS Calls Placed for the Purpose of Generating Compensable Minutes

2. The Bureau also emphasizes that individuals who place or arrange for VRS calls for the purpose of generating compensable minutes of use are not using the service as intended; that is, Congress intended TRS to provide the ability for individuals with hearing or speech disabilities to communicate over the telephone system with hearing individuals in a functionally equivalent manner. Using VRS as a means to generate compensation from the TRS Fund is antithetical to that statutory purpose. This includes, but is not limited to, calls to podcasts or other pre-recorded material and calls ostensibly for marketing or outreach purposes, when initiated by or on behalf of VRS providers. This also includes paying independent marketing firms to have deaf employees place marketing calls through the providers' VRS. Likewise, for example, when a provider directly or indirectly sponsors events (e.g., lectures, courses, story times) that deaf callers can listen to by placing VRS calls to a bridge number, that is encouraging users to place VRS calls that they would not ordinarily make. In these instances, but for the provider establishing the event for the deaf caller to call via VRS, no such call would occur.

VRS Voice Carry Over (VCO) Calls

3. Some providers offer VCO service to deaf or hard of hearing consumers who use VRS. VRS VCO permits the deaf or hard of hearing user to speak to the other party to the call rather than communicate via ASL; in return, the CA signs in ASL to the consumer what the other party to the call (the voice telephone user) has said. Such calls are generally set up by having the VRS CA, after the VRS user has initiated the video call to the CA, call back the VRS user on a voice telephone line. As a result, the VRS user has both the video link to the CA (to see, in ASL, what the called party has said) and a voice telephone link to the called party so that the VRS user can speak directly to that party.

4. To the extent that some users have abused VRS by using VRS VCO to make voice-to-voice calls for the purpose of making a free long distance call, the Bureau takes this opportunity to remind VRS providers of Congress's explicit limitation that VRS calls “provide the ability for an individual who has a hearing impairment or speech impairment to engage in communication * * * with a hearing individual.” 47 U.S.C. 225(a)(3). Therefore, VRS VCO may be used only when a person who is deaf or hard of hearing wants to use his or her own voice to speak to the hearing party during the VRS call. If it becomes clear that what was initially set up as a VRS VCO call is in fact a call between two voice telephone users, the call is no longer a TRS call compensable from the Fund.

VRS Calls That Originate and Terminate Outside of the United States

5. The Bureau also reminds providers that VRS calls that both originate and terminate outside of the United States are not compensable from the Fund under section 225 of the Act. Section 225 of the Act provides that “the Commission shall ensure that interstate and intrastate telecommunications relay services are available, to the extent possible and in the most efficient manner, to hearing-impaired and speech-impaired individuals in the United States.” 47 U.S.C. 225(b)(1). Because section 225 of the Act expressly states that TRS is for individuals “in the United States,” the statute does not authorize compensation from the Fund for VRS or other TRS calls that do not either originate or terminate in the United States. Similarly, as part of the registration and verification requirements applicable to the provision of ten-digit, North American Numbering Plan (NANP), telephone numbers to Internet-based TRS users, providers must verify that only persons with hearing or speech disabilities residing in the United States may obtain from them, and be registered with, a ten-digit NANP number.

Congressional Review Act

The Commission will not send a copy of this [Report & Order, etc.] pursuant to the Congressional Review Act, see 5 U.S.C. 801(a)(1)(A), because the adopted rules are: Rules of particular applicability;

Ordering Clauses

Pursuant Sections 1, 2, 4(i), and 225 of the Communications Act of 1934, as amended, 47 U.S.C. 151, 152, 154(i), and 225, and §§ 0.141, 0.361 and 1.2 of the Commission's rules, 47 CFR 0.141, 0.361 and 1.2, document DA 10-314 IS adopted.

Mark Stone,
Deputy Bureau Chief, Consumer and Governmental Affairs Bureau, Federal Communications Commission.

[FR Doc. 2010-10859 Filed 5-6-10; 8:45 am]

BILLING CODE 6712-01-P